FEDERAL ENERGY REGULATORY COMMISSION

[Docket No. EC98-40-000, et al.]

American Electric Power Company, et al.; Electric Rate and Corporate Regulation Filings

July 26, 2002.

The following filings have been made with the Commission. The filings are listed in ascending order within each docket classification.

1. American Electric Power Company

[Docket Nos. EC98-40-000, ER98-2777-000 and ER98-2786-000]

Take notice that on July 23, 2002, Charles River Associates Incorporated filed Market Monitoring of American Electric Power: Eighth Quarterly Report and a request for privileged treatment of the portions of certain documents.

Comment Date: August 13, 2002.

2. Nevada Power Company

[Docket Nos. ER01-2754-005, ER01-2755-004, ER01-2758-004, and ER01-2759-004 (Not Consolidated)]

Take notice that on July 23, 2002, Nevada Power Company (Nevada Power) filed, pursuant to Section 205 of the Federal Power Act and the Commission's Order dated June 12, 2002,in the above-referenced proceedings, an executed version of Service Agreement No. 100, which is a transmission service agreement (TSA) with Pinnacle West Energy Corporation (Pinnacle West). An unexecuted version of the TSA was included in Nevada Power's compliance filing of July 12, 2002. Since that time, Pinnacle West has executed the TSA and Nevada Power is now filing it in executed form. No changes were made to the TSA filed on July 12 other than its execution by the parties.

Comment Date: August 13, 2002.

3. NorthWestern Energy, L.L.C.

[Docket Nos. ER02-1784-001 and SC00-1-004]

Take notice that on July 23, 2002, NorthWestern Energy, L.L.C. (NorthWestern Energy) tendered for filing a Notice of Cancellation of FERC Rate Schedules 39 and 181 (requirements service to Central Montana Electric Power Cooperative, Inc. and Big Horn Electric Cooperative) in compliance with the Commission's order in NorthWestern Energy, L.L.C., 100 FERC ¶ 61,049 (2002) and Montana Power Company, 91 FERC ¶ 61,296 (2000). NorthWestern Energy requests an effective date of February 15, 2002 for the notice of cancellation.

Comment Date: August 13, 2002.

4. Virginia Electric and Power Company

[Docket No. ER02-2359-000]

Take notice that on July 23, 2002, Virginia Electric and Power Company (Dominion Virginia Power or the Company) tendered for filing the following:

1. Service Agreement for Firm Point-to-Point Transmission Service by Virginia Electric and Power Company to Select Energy, Inc. designated as Service Agreement No. 370 under the Company's FERC Electric Tariff, Second Revised Volume No. 5;

2. Service Agreement for Non-Firm Point-to-Point Transmission Service by Virginia Electric and Power Company to Select Energy, Inc. designated as Service Agreement No. 371 under the Company's FERC Electric Tariff, Second Revised Volume No. 5.

The foregoing Service Agreements are tendered for filing under the Open Access Transmission Tariff to Eligible Purchasers effective June 7, 2000. Under the tendered Service Agreements, Dominion Virginia Power will provide point-to-point service to Select Energy, Inc. under the rates, terms and conditions of the Open Access Transmission Tariff. Dominion Virginia Power requests an effective date of June 24, 2002, as requested by the customer.

Copies of the filing were served upon Select Energy, Inc., the Virginia State Corporation Commission, and the North Carolina Utilities Commission.

Comment Date: August 13, 2002.

Standard Paragraph

E. Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Linwood A. Watson, Jr.,
Deputy Secretary.

[FR Doc. 02-19614 Filed 8-2-02; 8:45 am]

BILLING CODE 6717-01-P